ENVIRONMENTAL PROTECTION AGENCY

40 CFR Part 271

[FRL-6847-6]

Montana: Final Authorization of State Hazardous Waste Management Program Revision

AGENCY: Environmental Protection Agency (EPA).

ACTION: Withdrawal of Immediate Final Rule.

SUMMARY: We are withdrawing the immediate final rule for Montana: Final Authorization of State Hazardous Waste Management Program Revision published on May 9, 2000, which approved the third revision to Montana's Hazardous Waste Rules. We stated in the immediate final rule that if we received comments that oppose this authorization, we would publish a timely notice of withdrawal in the Federal Register. Subsequently, we received comments that oppose this action. We will address these comments in a subsequent final action based on the proposed rule also published on May 9, 2000, at 65 FR 26802.

DATES: As of August 8, 2000, we withdraw the immediate final rule published on May 9, 2000, at 65 FR 26750.

FOR FURTHER INFORMATION CONTACT: Eric Finke, Waste and Toxics Team Leader, U.S. EPA, 301 S. Park, Drawer 10096, Helena, MT 59626, Phone: (406) 441-1130 ext 239, or Kris Shurr, EPA Region VIII, 999 18th Street, Suite 500, Denver, Colorado 80202-2466, phone number: (303) 312-6139. Kris Shurr (8P-HW), phone number: (303) 312-6312, 999 18th Street, Suite 500, Denver, Colorado 80202-2466.

SUPPLEMENTARY INFORMATION: Because we received comments that oppose this authorization, we are withdrawing the immediate final rule for Montana: Final Authorization of State Hazardous Waste Management Program Revision published on May 9, 2000, at 65 FR 26750, which intended to grant authorization for the third revision to Montana's Hazardous Waste Rules. We stated in the immediate final rule that if we received comments that opposed this action, we would publish a timely notice of withdrawal in the Federal Register. Subsequently, we received comments that opposed this action. We will address all comments in a subsequent final action based on the proposed rule previously published on May 9, 2000, at 65 FR 26802. We will not provide for additional public comment during the final action.

Dated: July 31, 2000.
Rebecca W. Hanmer,
Acting Regional Administrator, Region VIII.

[FR Doc. 00-20022 Filed 8-4-00; 12:50 pm]

BILLING CODE 6560-50-P